DEPARTMENT OF DEFENSE

Department of the Air Force

2025 Public Interface Control Working Group and Open Public Forum

AGENCY: Space Systems Command, United States Space Force, Department of the Air Force, Department of Defense.

ACTION: Notice of meeting.

SUMMARY: This notice informs the public that the Space Systems Command, Military Communications and Positioning, Navigation, Timing Directorate will host the 2025 Public Interface Control Working Group and Open Public Forum on May 13, 2025 for the following NAVSTAR GPS public documents: IS-GPS-200 (Navigation User Interfaces), IS-GPS-705 (User Segment L5 Interfaces), and IS-GPS-800 (User Segment L1C Interface). Additional logistical details can be found below.

DATES: Open to the public Tuesday, May 13, 2025, from 8:30 a.m. to 4 p.m. Pacific Time.

ADDRESSES: This virtual meeting can be accessed via the following URLs and dial-in numbers:

Microsoft Teams: https://gov.teams.microsoft.us/l/meetup-join/19%3agcch%3ameeting_7ae7d32ad71f4ba5a8f6ac8eedef185e%40thread.v2/0?context=%7b%22Tid%22%3a%22728ac41d-52a3-4e8c-b431-b300a7a7ee8b%22%2c%22Oid%22%3a%22ffc24286-a31c-46c4-9bb6-b1477914f119%22%7d, Meeting ID: 992 414 074 763, Passcode: YM2gn9Qm

Dial in: telephone (571) 544-7242, conference ID: 607 943 486#

Backup Microsoft Teams: https://dod.teams.microsoft.us/l/meetup-join/19%3adod%3ameeting_135600195021477ca5fc36d7c732ccff%40thread.v2/0?context=%7b%22Tid%22%3a%228331b18d-2d87-48ef-a35f-ac8818ebf9b4%22%2c%22Oid%22%3a%2287a32064-cfb0-4c32-867b-0f7cf2dd1434%22%7d, Meeting ID: 993 820 521 45, Passcode: VY95Re9j

Backup Dial in: telephone (410) 874-6750, conference ID: 317 889 680#

If you wish to attend in person, please place a request via the FOR FURTHER INFORMATION CONTACT. In person attendance will be determined by room capacity at SAIC, 200 CA-1, El Segundo, CA 90245.

FOR FURTHER INFORMATION CONTACT: Mr. Daniel Stevenson, Los Angeles AFB, 483 N. Aviation Blvd., El Segundo, CA 90245, telephone (310) 653-3531, email SSC.CG.PICWG@spaceforce.mil.

SUPPLEMENTARY INFORMATION: The purpose of this meeting is to update the public on proposed GPS public document changes, collect issues/comments for analysis and adjudicate subject comments for possible incorporation into future GPS public document revisions. The 2025 Public Interface Control Working Group and Open Forum are open to the public.

Comments to the proposed changes will be collected, catalogued, and adjudicated for potential inclusion. If accepted, these changes will be processed through the government change management process for IS-GPS-200, IS-GPS-705, and IS-GPS-800. All comments must be submitted in a Comments Resolution Matrix. This form along with the proposed change notices, public document baseline documents, and the official meeting notice are posted at https://www.gps.gov/technical/icwg/meetings/2025/.

Please submit comments to the Space Systems Command GPS Requirements Section (SSC/CGEPR) workflow at SSC.CG.PICWG@spaceforce.mil by March 21, 2025. Special topics may also be considered for the Public Open Forum. If you wish to present a special topic, please submit your topic title, briefer name, and organization by April 1, 2025. Any briefing materials will be due no later than April 1, 2025.

For those who would like to attend and participate, we request that you register no later than April 30, 2025. Please send the registration information to SSC.CG.PICWG@spaceforce.mil, providing your name, organization, telephone number, email address, and country of citizenship. Meeting is being held virtually. Backup dial-in and screen share website will only be used in case of primary system technical difficulties.

Tommy W. Lee,
Acting Air Force Register Liaison Officer.

[FR Doc. 2025-03461 Filed 3-3-25; 8:45 am]

BILLING CODE 3911-44-P